COMMISSION ON CIVIL RIGHTS

Sunshine Act Notice

AGENCY: United States Commission on Civil Rights.

ACTION: Notice of meeting.

Date and Time: Friday, August 27, 2010; 11:30 a.m. EDT.

Place: Via Teleconference, Public Dial In: 1-800-597-7623, Conference ID # 94458880.

Meeting Agenda

This meeting is open to the public, except where noted otherwise.

I. Approval of Agenda

II. Program Planning

• New Black Panther Party Enforcement Project

• Sex Discrimination in Liberal Arts College Admissions Project

• Timeline for Briefing Report on English-Only in the Workplace

III. State Advisory Committee Issues

• Wyoming SAC

III. Approval of August 13 Meeting Minutes

IV. Adjourn

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: August 17, 2010.
David Blackwood,
General Counsel.

[FR Doc. 2010-20752 Filed 8-17-10; 4:15 pm]

BILLING CODE 6335-01-P